DEPARTMENT OF COMMERCE

National Oceanic and Atmospheric Administration

50 CFR Part 660

[RTID 0648-XD481]

Fisheries Off West Coast States; Coastal Pelagic Species Fisheries; Amendment 21 to the Coastal Pelagic Species Fishery Management Plan

AGENCY: National Marine Fisheries Service (NMFS), National Oceanic and Atmospheric Administration (NOAA), Commerce.

ACTION: Notice of availability of an amendment to a fishery management plan; request for comments.

SUMMARY: The Pacific Fishery Management Council has submitted Amendment 21 to the Coastal Pelagic Species (CPS) Fishery Management Plan (FMP) for review by the Secretary of Commerce. If approved, Amendment 21 would make a number of non-substantive, administrative changes to the CPS FMP including defining acronyms upon first use, adding hyperlinks, removing repetitive language, and rearranging sections for clarity and logical sequence. These changes, colloquially referred to as “housekeeping” changes, would not change the management of the fishery. This proposed amendment is intended to promote the goals and objectives of the Magnuson-Stevens Fishery Conservation and Management Act, the CPS FMP, and other applicable laws. NMFS will consider public comments in deciding whether to approve, disapprove, or partially approve Amendment 21.

DATES: Comments on the notice of availability must be received by April 22, 2024 to be considered in the decision whether to approve, disapprove, or partially approve Amendment 21.

ADDRESSES: You may submit comments on this document, identified by NOAA-NMFS-2023-0134, by the following method:

• Electronic Submissions: Submit all electronic public comments via the Federal e-Rulemaking Portal. Go to https://www.regulations.gov and type NOAA-NMFS-2023-0134 in the Search box (note: copying and pasting the FDMS Docket Number directly from this document may not yield search results). Click the “Comment” icon, complete the required fields, and enter or attach your comments.

Instructions: Comments must be submitted by the above method to ensure that the comments are received, documented, and considered by NMFS. Comments sent by any other method, to any other address or individual, or received after the end of the comment period, may not be considered. All comments received are a part of the public record and will generally be posted for public viewing on https://www.regulations.gov without change. All personal identifying information (e.g., name, address, etc.) submitted voluntarily by the sender will be publicly accessible. Do not submit confidential business information, or otherwise sensitive or protected information. NMFS will accept anonymous comments (enter “N/A” in the required fields if you wish to remain anonymous).

Electronic Access

This rule is accessible via the internet on the Office of the Federal Register website at https://www.federalregister.gov/. Additionally, background information and documents are available on the Pacific Fishery Management Council's website at https://www.pcouncil.org/actions/housekeeping-fmp-amendment/.

FOR FURTHER INFORMATION CONTACT: Katie Davis, Sustainable Fisheries Division, NMFS, (323) 372-2126, katie.davis@noaa.gov; or Jessi Doerpinghaus, Staff Officer, Pacific Fishery Management Council, (503) 820-2415, jessi.doerpinghaus@noaa.gov.

SUPPLEMENTARY INFORMATION: The coastal pelagic species (CPS) fishery in the U.S. exclusive economic zone off the West Coast is managed under the CPS Fishery Management Plan (FMP). The Pacific Fishery Management Council (Council) developed the CPS FMP pursuant to the Magnuson-Stevens Fishery Conservation and Management Act (Magnuson-Stevens Act, 16 U.S.C. 1801 et seq.). The Secretary of Commerce approved the CPS FMP and implemented the provisions of the plan through regulations at 50 CFR part 660, subpart I. Species managed under the CPS FMP include Pacific sardine, Pacific mackerel, jack mackerel, northern anchovy, market squid, and krill.

The Magnuson-Stevens Act requires each regional fishery management council to submit any amendment to an FMP to NMFS for review and approval, disapproval, or partial approval. The Magnuson-Stevens Act also requires that NMFS, upon receiving an amendment to an FMP, immediately publish notification in the Federal Register that the amendment is available for public review and comment. This notice of availability announces that the proposed Amendment 21 to the CPS FMP is available for public review and comment. NMFS will consider the public comments received during the comment period described above in determining whether to approve, disapprove, or partially approve Amendment 21.

Background

At its April 2022 meeting, the Council initiated the preparation of an administrative amendment for the CPS FMP, the intention of which was to conduct an editorial revision of the document for clarity and consistency. The amendment was colloquially referred to as a “housekeeping” amendment. During the development of Amendment 20 on management categories (see 88 FR 42652, July 3, 2023), the Council's CPS Management Team had identified places within the CPS FMP where text could be edited to address inconsistencies in terminology and organization resulting from past revisions through various amendments to the FMP. The CPS Management Team developed, with input from the CPS Advisory Subpanel, a draft of proposed changes to the CPS FMP that was adopted by the Council for public review in November 2022. None of the proposed changes were intended to alter the management of the CPS fisheries. Between November 2022 and April 2023, the CPS Management Team and Council staff reviewed and continued to work on the draft to ensure that the proposed changes were within the administrative scope of this action. In April 2023, the Council adopted the proposed changes to the CPS FMP for recommendation to NMFS.

Summary of Proposed Administrative Changes to the Coastal Pelagic Species Fishery Management Plan

A complete list of the proposed changes in Amendment 21 to the CPS FMP is available on the Council website at https://www.pcouncil.org/actions/housekeeping-fmp-amendment/. In addition to minor editorial clarifications in the FMP, most of the proposed changes fall into the following categories:

Abbreviations and acronyms: All abbreviations and acronyms would be spelled out upon first use and then applied throughout the remainder of the FMP. A list of acronyms and their definitions would be added to the beginning of the document.

Hyperlinks: Hyperlinks to Council documents or the Federal Register would be inserted upon reference to an FMP amendment, final rule that implemented an FMP amendment, and associated regulations.

Chub mackerel: Chapter 1 of the CPS FMP establishes that Pacific mackerel is also known as “chub” mackerel. To employ consistent terminology throughout the document, the term “chub” would not be repeated with regard to Pacific mackerel.

Headings and Structure: Sections of the CPS FMP would be rearranged to achieve clarity and logical order, resulting in changes to the section headings and numbering to accurately and sequentially label their contents.

Organizational Terminology: Terminology would be updated consistent with changes in nomenclature that have occurred since the CPS FMP was written, such as those resulting from the 2007 reauthorization of the Magnuson-Stevens Act, the 2016 updates to the National Standard guidelines, and the consolidation of the NMFS Southwest and Northwest Regional Offices into the West Coast Region.

This Amendment would edit the CPS FMP for clarity and content, and make no changes to the management of CPS fisheries.

Authority: 16 U.S.C. 1801 et seq.

Dated: February 14, 2024.
Everett Wayne Baxter,
Acting Director, Office of Sustainable Fisheries, National Marine Fisheries Service.

[FR Doc. 2024-03396 Filed 2-16-24; 8:45 am]

BILLING CODE 3510-22-P